DEPARTMENT OF HEALTH AND HUMAN SERVICES

Administration for Children and Families

Submission for OMB Review; Comment Request

Title: Low Income Home Energy Assistance Program (LIHEAP) Grantee Survey.

OMB No.: 0970-0076.

Description: The LIHEAP Grantee Survey is an annual data collection activity, which is sent to the 50 States and the District of Columbia grantees administering the Low Income Home Energy Assistance Program (LIHEAP). The survey requests estimates on sources and uses of funds under LIHEAP—preliminary estimates for the current fiscal year and final estimates for the previous fiscal year. We are proposing changes in the collection of data using the Grantee Survey, generally to reduce the burden on grantees, In addition, the annual submission of the Grantee Survey will be changed from voluntary to mandatory. The change to a mandatory submission is necessary to increase the reliability of the data and to make it available on a more time basis. Section 2605(b)(14) of the Low Income Home Energy Assistance Act, as amended, requires grantees to provide assurance that they will cooperate with the Secretary with respect to data collecting and reporting. This is one of 16 assurances a State's governor or someone specifically designated by the governor makes as part of each year's LIHEAP application.

To be in full compliance with section 2605(b)(14), grantees must return the completed survey by the due date.

The preliminary estimates collected by the Grantee Survey for the current fiscal year are needed to provide the Administration and Congress with fiscal and case load estimates in time for hearings about LIHEAP appropriations and program performance. Final estimates for the previous fiscal year will be included in the Department's annual LIEHAP Report to Congress and will be posted on the Department's LIHEAP web site for access by grantees and other interested parties.

Respondents: 50 States and the District of Columbia.

Annual Burden Estimates
Instrument | Number of respondents | Number of responses per respondent | Average burden hours per response | Total burden hours
Survey | 51 | 1 | 3.5 | 178.5
Estimated Total Annual Burden Hours: |  |  |  | 178.5

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: June 18, 2001.
Bob Sargis,
Reports Clearance Officer.

[FR Doc. 01-15627 Filed 6-20-01; 8:45 am]

BILLING CODE 4184-01-M